DEPARTMENT OF HEALTH AND HUMAN SERVICES

Centers for Disease Control and Prevention

Health Disparities Subcommittee, Advisory Committee to the Director (ACD), Centers for Disease Control (CDC); Notice of Meeting

In accordance with section 10(a)(2) of the Federal Advisory Committee Act (Pub. L. 92-463), the Centers for Disease Control and Prevention (CDC) announces the following meeting of the aforementioned subcommittee.

Time and Date: 2 p.m.-4:30 p.m., October 28, 2009.

Place: The meeting will be convened at the CDC, 1600 Clifton Road, NE., Atlanta, GA 30333, Building 19, Auditorium B1, Global Communications Center. Please see Supplementary Information for details on accessing the meeting location.

Status: Open to the public, limited only by the availability of space. The meeting room accommodates approximately 90 people.

Purpose: The Subcommittee will provide advice to the CDC Director through the Advisory Committee to the Director on strategic and other broad issues facing CDC.

Matters To Be Discussed: ACD Health Disparities Subcommittee 2009 Action Agenda; CDC Director's Health Disparity Indicator Project Update, Director's Priorities and Reorganization/Structure.

Agenda items are subject to change as priorities dictate.

Supplementary Information: To participate in the meeting, please plan to register with CDC Security Officials at the Visitor's Center at least one hour prior to the meeting. A government-issued picture ID will be required. All persons who do not have a CDC/Health and Human Services identification will have to be escorted to the meeting.

Contact Person for More Information: Walter W. Williams, M.D., M.P.H., Designated Federal Officer, Health Disparities Subcommittee, ACD, CDC, 1600 Clifton Road, NE., M/S E-67, Atlanta, Georgia 30333. Telephone 404/498-2310, E-mail: http://www1@cdc.gov.

The Director, Management Analysis and Services Office, has been delegated the authority to sign Federal Register notices pertaining to announcements of meetings and other committee management activities, for both the Centers for Disease Control and Prevention and the Agency for Toxic Substances and Disease Registry.

Dated: October 8, 2009.
Andre Tyler,
Acting Director, Management Analysis and Services Office, Centers for Disease Control and Prevention.

[FR Doc. E9-24859 Filed 10-14-09; 8:45 am]

BILLING CODE 4163-18-P